DEPARTMENT OF TRANSPORTATION

National Highway Traffic Safety Administration

Denial of Motor Vehicle Defect Petition

AGENCY: National Highway Traffic Safety Administration (NHTSA), Department of Transportation.

ACTION: Denial of petition for a defect investigation.

SUMMARY: This notice sets forth the reasons for the denial of a petition submitted by Mr. Brad Lamb, Executive Director, North Carolina Consumers Council (NCCC) to NHTSA's Office of Defects Investigation (ODI). The petition was received on December 2, 2005. The petitioner requests, pursuant to 49 U.S.C. 30162, that the agency commence a proceeding to determine the existence of a defect related to motor vehicle safety with respect to the performance of the head lamp assemblies on model year (MY) 2004 Pontiac Grand Prix vehicles. After a review of the petition and other information, NHTSA has concluded that further expenditure of the agency's resources on the issue raised by the petition does not appear to be warranted. The agency has accordingly denied the petition. The petition is herein after identified as DP05-010.

FOR FURTHER INFORMATION CONTACT: Mr. Leamon H. Strickland, Vehicle Integrity Division, Office of Defects Investigation, NHTSA, 400 Seventh Street, SW., Washington, DC 20590. Telephone: (202) 366-5201.

SUPPLEMENTARY INFORMATION: On December 2, 2005, ODI received a petition submitted by Mr. Brad Lamb, Executive Director of the North Carolina Consumers Council, requesting an investigation of an alleged defect evidenced by shake or bounce of the head lamps installed on MY 2004 Pontiac Grand Prix vehicles (subject vehicles), a condition that may potentially distract the operators of other motor vehicles being approached or followed by the subject vehicles. The petition alleges that this condition may be exhibited when the subject vehicles are being driven on smooth as well as rough road surfaces. The petition states that as a result of this problem, the manufacturer redesigned the head lamp bracket and issued a procedure to dealers for retrofit of the revised bracket on early models of the subject vehicles to correct this problem. The petition also identifies and lists 33 non-duplicative reports regarding the alleged defect in the subject vehicles that are contained in the ODI consumer complaint database.

In October 2003, ODI discovered that its consumer letter database contained six consumer complaints regarding this matter, and initiated a routine screening review of the matter. The review included road tests of six randomly selected subject vehicles in order to qualitatively assess the potential safety implications of the condition. The evaluation concluded that the problem appeared to be more apparent on those subject vehicle models equipped with the “sport” suspension system, designed with more rigidity than the standard suspension system. The review also found that the condition was more noticeable when the subject vehicles were driven on rough road surfaces. The details of this initial review were presented to and evaluated by a panel of ODI engineers and managers, who decided that the issue did not rise to the level of a potential safety-related matter that should be formally investigated.

The current petition prompted an additional and contemporary ODI review of the matter. ODI has confirmed that its consumer complaint database now contains the 33 consumer complaints cited by the petition, plus an additional three complaints, i.e., a total of 36 complaints. These complaints, however, contain no allegations or reports of accidents or compromise to control of the subject vehicles, or of compromise to driver control of other vehicles resulting from head lamp bounce or shake in the subject vehicles. It is noted, however, that in one instance a driver being followed by a subject vehicle reported thinking that he was being signaled, and stopped alongside the roadway with no additional consequence. ODI estimates that approximately 180,000 of the subject vehicles were sold for use in the United Stares.

ODI has also reviewed Early Warning Reports submitted by the manufacturer for any evidence of additional reports of this problem through field reports or other documentation generated by the manufacturer's evaluations. Some relevant product evaluation reports were identified but in each case the concern was reported to be limited to operation of the subject vehicles on rough road surfaces, and none of these reports noted compromise to safe operation to the subject vehicles or to any other vehicles.

On November 23, 2004, the manufacturer issued a Technical Service Bulletin (TSB) on this condition to authorized dealers of the subject vehicles. The TSB prescribed a procedure for the installation of revised bracket and associated hardware to improve securement of the headlamp assembly to the vehicle.

The subject MY 2004 vehicles were first sold to the public beginning approximately in September 2003, and carried a standard 36-month/36,000-mile warranty. All of the subject vehicles are still within the 36 month limit of the original warranty, and that coverage continues unless the mileage limits have been exceeded. Therefore, any vehicle that developed the headlight shake condition has been eligible for repair at no cost to the owner by simply returning it to an authorized dealer; this eligibility is still in effect for those vehicles for which the mileage limits have not been surpassed. The repairs covered under the provisions of the warranty would typically involve installation of the revised headlamp bracket using the procedures outlined in the TSB issued in November 2004.

ODI's review disclosed that the first of the 36 consumer complaints was dated October 2003, and that the vehicle involved has been eligible for repair under the warranty provisions for approximately 15 months. Unless the mileage limit of warranty coverage has been exceeded, that vehicle is still eligible for warranty repair. ODI further noted that 34 of the 36 consumer complaints were submitted prior to issuance of the manufacturer's TSB. Only two consumer complaints have been submitted since the TSB was issued, and the most recent was dated July 2005. It is clear that consumer complaints regarding the alleged defect have exhibited a declining trend.

ODI concludes that no evidence has been identified to suggest that headlamp shake in the subject vehicles constitutes significantly more than a nuisance, and that no potential safety-related implications of this condition have been demonstrated.

In view of the foregoing, it is unlikely that NHTSA would issue an order for the notification and remedy of the alleged defect as defined by the petitioner at the conclusion of the investigation requested in the petition. Therefore, and in view of the need to prioritize NHTSA's limited resources to best accomplish the agency's safety mission, the petition is denied.

Authority: 49 U.S.C. 30162(d); delegations of authority at CFR 1.50 and 501.8.

Daniel C. Smith,
Associate Administrator for Enforcement.

[FR Doc. E6-4815 Filed 4-3-06; 8:45 am]

BILLING CODE 4910-59-P